DEPARTMENT OF ENERGY

Federal Energy Regulatory Commission

Combined Notice of Filings #1

Take notice that the Commission received the following exempt wholesale generator filings:

Docket Numbers: EG24-285-000.

Applicants: Kalamazoo Generating Station, LLC.

Description: Kalamazoo Generating Station, LLC submits Notice of Self-Certification of Exempt Wholesale Generator Status.

Filed Date: 9/12/24.

Accession Number: 20240912-5064.

Comment Date: 5 p.m. ET 10/3/24.

Docket Numbers: EG24-286-000.

Applicants: Livingston Generating Station, LLC.

Description: Livingston Generating Station, LLC submits Notice of Self-Certification of Exempt Wholesale Generator Status.

Filed Date: 9/12/24.

Accession Number: 20240912-5065.

Comment Date: 5 p.m. ET 10/3/24.

Take notice that the Commission received the following electric rate filings:

Docket Numbers: ER24-465-000.

Applicants: Nestlewood Solar I LLC.

Description: Refund Report: Refund Report to be effective N/A.

Filed Date: 9/11/24.

Accession Number: 20240911-5155.

Comment Date: 5 p.m. ET 10/2/24.

Docket Numbers: ER24-1866-002.

Applicants: Power Authority of the State of New York, New York Independent System Operator, Inc.

Description: Tariff Amendment: New York Independent System Operator, Inc. submits tariff filing per 35.17(b): NYPA Amendment to Formula Rate Template Revisions to be effective 7/1/2024.

Filed Date: 9/12/24.

Accession Number: 20240912-5114.

Comment Date: 5 p.m. ET 9/17/24.

Docket Numbers: ER24-2078-000.

Applicants: Nestlewood Solar I LLC.

Description: Refund Report: Refund Report to be effective N/A.

Filed Date: 9/11/24.

Accession Number: 20240911-5156.

Comment Date: 5 p.m. ET 10/2/24.

Docket Numbers: ER24-2305-000.

Applicants: American Transmission Systems, Incorporated, PJM Interconnection, L.L.C.

Description: Refund Report: American Transmission Systems, Incorporated submits tariff filing per 35.19a(b): ATSI submits Refund Report in Docket No. ER24-2305 to be effective N/A.

Filed Date: 9/11/24.

Accession Number: 20240911-5043.

Comment Date: 5 p.m. ET 10/2/24.

Docket Numbers: ER24-2560-000; ER24-2581-000; ER24-2611-000.

Applicants: Energy Prepay IV, LLC, Energy Prepay III, LLC, Energy Prepay I, LLC.

Description: Supplement to 07/19/2024, Energy Prepay I, LLC, et al. tariff filing.

Filed Date: 9/6/24.

Accession Number: 20240906-5227.

Comment Date: 5 p.m. ET 9/16/24.

Docket Numbers: ER24-3024-000.

Applicants: Tucson Electric Power Company.

Description: 205(d) Rate Filing: Service Agreement No. 547, Engineering and Procurement Agreement to be effective 8/14/2024.

Filed Date: 9/12/24.

Accession Number: 20240912-5000.

Comment Date: 5 p.m. ET 10/3/24.

Docket Numbers: ER24-3025-000.

Applicants: Southwest Power Pool, Inc.

Description: 205(d) Rate Filing: 4318 SPS GIA to be effective 8/29/2024.

Filed Date: 9/12/24.

Accession Number: 20240912-5008.

Comment Date: 5 p.m. ET 10/3/24.

Docket Numbers: ER24-3026-000.

Applicants: Southwest Power Pool, Inc.

Description: 205(d) Rate Filing: 4325 SPS GIA to be effective 8/30/2024.

Filed Date: 9/12/24.

Accession Number: 20240912-5012.

Comment Date: 5 p.m. ET 10/3/24.

Docket Numbers: ER24-3027-000.

Applicants: Appalachian Power Company.

Description: 205(d) Rate Filing: OATT—Revise Attachment K, AEP Texas Inc. Rate Update to be effective 10/1/2024.

Filed Date: 9/12/24.

Accession Number: 20240912-5042.

Comment Date: 5 p.m. ET 10/3/24.

Docket Numbers: ER24-3028-000.

Applicants: Kalamazoo Generating Station, LLC.

Description: Baseline eTariff Filing: Application for Market-Based Rate Authorization to be effective 11/11/2024.

Filed Date: 9/12/24.

Accession Number: 20240912-5058.

Comment Date: 5 p.m. ET 10/3/24.

Docket Numbers: ER24-3029-000.

Applicants: Livingston Generating Station, LLC.

Description: Baseline eTariff Filing: Application for Market-Based Tariff Authorization to be effective 11/11/2024.

Filed Date: 9/12/24.

Accession Number: 20240912-5060.

Comment Date: 5 p.m. ET 10/3/24.

Docket Numbers: ER24-3030-000.

Applicants: Panther Creek Power Operating, LLC.

Description: Compliance filing: Panther Creek Informational Filing and Request for Waiver to be effective N/A.

Filed Date: 9/12/24.

Accession Number: 20240912-5123.

Comment Date: 5 p.m. ET 10/3/24.

Docket Numbers: ER24-3031-000.

Applicants: Scrubgrass Reclamation Company, L.P.

Description: Compliance filing: Scrubgrass Informational Filing and Limited Waiver Request to be effective N/A.

Filed Date: 9/12/24.

Accession Number: 20240912-5124.

Comment Date: 5 p.m. ET 10/3/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 12, 2024.
Debbie-Anne A. Reese,
Acting Secretary.

[FR Doc. 2024-21292 Filed 9-18-24; 8:45 am]

BILLING CODE 6717-01-P